DEPARTMENT OF ENERGY

Notice of Department of Energy-Quadrennial Technology Review Capstone Workshop

AGENCY: Department of Energy (DOE).

ACTION: Notice of open meeting.

SUMMARY: DOE has initiated a Quadrennial Technology Review (DOE-QTR) of its energy technology policies and programs. The DOE-QTR Capstone Workshop is the culmination of the Department's public engagement phase of the review.

DATES: 8:30 a.m.-5:30 p.m., Wednesday, July 13, 2011.

ADDRESSES: The meeting will be held in the Washington, DC metro area. Attendance at the meeting is on a first-come, first-served basis, and pre-registration is required. The address of venue will be posted and registration information available at http://energy.gov/QTR.

FOR FURTHER INFORMATION CONTACT: Asa Hopkins, Office of the Under Secretary for Science at (202) 586-0505, or e-mail asa.hopkins@science.doe.gov.

SUPPLEMENTARY INFORMATION: The energy technology development and deployment programs of the Department of Energy include the Advanced Research Projects Agency-Energy (ARPA-E) and the Offices of Electricity Delivery & Energy Reliability, Energy Efficiency & Renewable Energy, Fossil Energy, and Nuclear Energy—a set of programs with an annual collected budget of about $4.3 billion. Additionally, the Department's Office of Science supports basic scientific research programs in materials and chemical sciences, biology, and computational sciences that are highly relevant for the energy technology programs considered within the DOE-Quadrennial Technology Review (QTR). The Department also administers loan guarantees to eligible clean energy projects and provides direct loans to eligible manufacturers of advanced technology vehicles and components.

DOE is undertaking development of a QTR, a component of a government-wide Quadrennial Energy Review as recommended by the President's Council of Advisors on Science & Technology. This Administration's national energy goals are to:

• Reduce energy-related greenhouse gas emissions by 17% by 2020 and 83% by 2050, from a 2005 baseline;

• Supply 80% of America's electricity from clean energy sources by 2035; and

• Support deployment of 1 million electric vehicles (EVs) on the road by 2015.

In a previous Federal Register notice [76 FR 13607 (March 3, 2011)], the Department requested public comment on the questions related to the DOE-QTR and the framing document. Comments received before April 15, 2011, have been posted on the project's Web site, http://energy.gov/QTR.

Purpose of the Meeting: The DOE-QTR Capstone Workshop will provide the public an opportunity to offer feedback on the broad outlines of our principles for the entry of a technology into the Department's energy technology research & development portfolio, the composition of activities within that portfolio, and approaches to prioritization of R&D programs within each of six strategies defined in our framing document: In the mobile sector, these are vehicle efficiency, electrification, and advanced fuels; and in the stationary sector, these are building and industrial efficiency, grid, and clean electricity supply. The Capstone Workshop builds on a set of workshops held on each of the QTR strategies: alternative fuels in Chicago, IL on April 26, 2011; vehicle efficiency and electrification in Knoxville, TN on May 4, 2011; building and industrial efficiency in Pittsburgh, PA on May 17, 2011; grid in Scottsdale, AZ on May 23, 2011; and clean electricity generation in Boulder, CO on June 7, 2011.

Tentative Agenda: The one day meeting will consist of four ninety minute panels: (1) the Department's mobile portfolio; (2) the Department's stationary portfolio; (3) technology policy and the role of demonstrations; and (4) balance within the mobile and stationary portfolios and between mobile and stationary portfolios. For each of these four sessions, panelists will be asked to discuss our draft entry, composition and prioritization principles for approximately thirty minutes. Then, approximately forty-five minutes will be reserved for public comments and questions for the panelists and DOE. The time allotted per speaker will depend on the number who wish to speak, but is not expected to exceed 5 minutes in order to allow maximum participation by attendees. Each panel will close with a summary by DOE of approximately fifteen minutes.

Public Participation: It is the policy of the Department to ensure that public participation is an integral and effective part of DOE activities, and that decisions are made with the benefit of significant public input and perspectives.

The Department recognizes the many benefits to be derived from public participation for both stakeholders and DOE. Public participation provides a means for DOE to gather a diverse collection of opinions, perspectives, and values from the broadest spectrum of the public, enabling the Department to make more informed decisions. Public participation benefits stakeholders by creating an opportunity to provide input on decisions that affect their communities and our nation.

Issued in Washington, DC, on June 8, 2011.
Steven E. Koonin,
Undersecretary for Science, Department of Energy.

[FR Doc. 2011-14565 Filed 6-10-11; 8:45 am]

BILLING CODE 6450-01-P